SMALL BUSINESS ADMINISTRATION

[Disaster Declaration #15782 and #15783; Northern Mariana Islands Disaster Number MP-00009]

Presidential Declaration Amendment of a Major Disaster for the Commonwealth of the Northern Mariana Islands

AGENCY: U.S. Small Business Administration.

ACTION: Amendment 2.

SUMMARY: This is an amendment of the Presidential declaration of a major disaster for the Commonwealth of the Northern Mariana Islands (FEMA-4404-DR), dated 10/26/2018.

Incident: Super Typhoon Yutu.

Incident Period: 10/24/2018 through 10/26/2018.

DATES: Issued on 11/10/2018.

Physical Loan Application Deadline Date: 01/27/2019.

Economic Injury (EIDL) Loan Application Deadline Date: 07/26/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the Commonwealth of the Northern Mariana Islands, dated 10/26/2018, is hereby amended to extend the deadline for filing applications for physical damages as a result of this disaster to 01/27/2019.

All other information in the original declaration remains unchanged.

(Catalog of Federal Domestic Assistance Number 59008)

James Rivera,
Associate Administrator for Disaster Assistance.

[FR Doc. 2018-26716 Filed 12-10-18; 8:45 am]

BILLING CODE 8025-01-P